DEPARTMENT OF AGRICULTURE

Forest Service

Siskiyou County Resource Advisory Committee Meeting

AGENCY: Forest Service, USDA.

ACTION: Notice of meeting.

SUMMARY: The Siskiyou County Resource Advisory Committee will meet in Yreka, California, May 19, 2003. The meeting will include routine business and discussion of outreach initiatives and signage at project sites.

DATES: The meeting will be held May 19, 2003 from 4 p.m. until 7 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open to the public. Public comment opportunity will be provided and individuals will have the opportunity to address the Committee at that time.

Dated: April 23, 2003.
Margaret J. Boland,
Designated Federal Official.

[FR Doc. 03-10640 Filed 4-29-03; 8:45 am]

BILLING CODE 3410-11-M